DEPARTMENT OF THE INTERIOR

National Park Service

[NPS-WASO-NAGPRA-NPS0036307; PPWOCRADN0-PCU00RP14.R50000]

Notice of Intent To Repatriate Cultural Items: The Andy Warhol Museum, Pittsburgh, PA

AGENCY: National Park Service, Interior.

ACTION: Notice.

SUMMARY: In accordance with the Native American Graves Protection and Repatriation Act (NAGPRA), The Andy Warhol Museum (AWM) intends to repatriate a certain cultural item that meets the definition of an object of cultural patrimony and that has a cultural affiliation with the Indian Tribes or Native Hawaiian organizations in this notice. The cultural item was removed from Moody County, SD.

DATES: Repatriation of the cultural item in this notice may occur on or after September 5, 2023.

ADDRESSES: Matt Gray, Director of Archives, The Andy Warhol Museum, 117 Sandusky Street, Pittsburgh, PA 15212, telephone (412) 237-8363, email graym@warhol.org.

SUPPLEMENTARY INFORMATION: This notice is published as part of the National Park Service's administrative responsibilities under NAGPRA. The determinations in this notice are the sole responsibility of AWM. The National Park Service is not responsible for the determinations in this notice. Additional information on the determinations in this notice, including the results of consultation, can be found in the summary or related records held by AWM.

Description

The one cultural item was removed from Moody County, SD. The item was discovered by AWM staff on April 12, 2018, while processing a large donation of Andy Warhol's personal archive received from The Andy Warhol Foundation for the Visual Arts, Inc. On May 16, 2018, it was identified as a Native American bundle, and on July 17, 2018, it was included in a summary. The bundle was inspected by two staff at the Carnegie Museum of Natural History (CMNH), Gretchen Anderson, Head of the Section of Conservation, and Deborah Harding, Collection Manager in the Section of Anthropology. The bundle consists of a large adult eagle wrapped in an embroidered wool shawl, patterned silk, linen, and multiple layers of patterned cotton. Most of the fabrics used in the bundle had been previously worn. The outermost layers of the bundle are wrapped in plain cotton. Hand-stitched wool stroud and silk ribbons are wrapped around the eagle's chest, silk ribbons are tied around its ankles, and a runtee shell is tied around its neck. The one bundle is an object of cultural patrimony.

Cultural Affiliation

The cultural item in this notice is connected to one or more identifiable earlier groups, tribes, peoples, or cultures. There is a relationship of shared group identity between the identifiable earlier groups, tribes, peoples, or cultures and one or more Indian Tribes or Native Hawaiian organizations. The following type of information was used to reasonably trace the relationship: expert opinion.

Determinations

Pursuant to NAGPRA and its implementing regulations, and after consultation with the appropriate Indian Tribes and Native Hawaiian organizations, AWM has determined that:

• The one cultural item described above has ongoing historical, traditional, or cultural importance central to the Native American group or culture itself, rather than property owned by an individual.

• There is a relationship of shared group identity that can be reasonably traced between the cultural item and the Flandreau Santee Sioux Tribe of South Dakota.

Requests for Repatriation

Additional, written requests for repatriation of the cultural item in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after September 5, 2023. If competing requests for repatriation are received, AWM must determine the most appropriate requestor prior to repatriation. Requests for joint repatriation of the cultural items are considered a single request and not competing requests. AWM is responsible for sending a copy of this notice to the Indian Tribe identified in this notice.

Authority: Native American Graves Protection and Repatriation Act, 25 U.S.C. 3003, and the implementing regulations, 43 CFR 10.8, 10.10, and 10.14.

Dated: July 26, 2023.
Melanie O'Brien,
Manager, National NAGPRA Program.

[FR Doc. 2023-16486 Filed 8-2-23; 8:45 am]

BILLING CODE 4312-52-P